DEPARTMENT OF ENERGY

Federal Energy Regulatory Commission

[Docket No. CP06-115-003]

Texas Eastern Transmission, LP; Notice of Compliance Filing

November 2, 2007.

Take notice that on October 30, 2007, Texas Eastern Transmission, L.P. (Texas Eastern) tendered for filing as part of its FERC Gas Tariff, Seventh Revised Volume No. 1, the following tariff sheets, with an effective date of December 1, 2007:

Original Sheet No. 35B

Sixth Revised Sheet No. 211

Fourth Revised Sheet No. 213

Sixth Revised Sheet No. 501

Sixth Revised Sheet No. 529

Eighth Revised Sheet No. 627

Texas Eastern states that the filing is being made in compliance with the Commission's order issued on June 8, 2007 in Docket No. CP06-115-000.

Any person desiring to protest this filing must file in accordance with Rule 211 of the Commission's Rules of Practice and Procedure (18 CFR 385.211). Protests to this filing will be considered by the Commission in determining the appropriate action to be taken, but will not serve to make protestants parties to the proceeding. Such protests must be filed in on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. Eastern Time November 7, 2007.

Kimberly D. Bose,
Secretary.

[FR Doc. E7-22018 Filed 11-8-07; 8:45 am]

BILLING CODE 6717-01-P